DEPARTMENT OF VETERANS AFFAIRS

Advisory Committee on Gulf War Veterans; Notice of Meeting

The Department of Veterans Affairs (VA) gives notice under Public Law 92-463 (Federal Advisory Committee Act) that the Advisory Committee on Gulf War Veterans will hold its first meeting on June 17-19, 2008 at The Hamilton Crowne Plaza, 1001 14th Street, NW., Washington, DC. The session on June 17 will begin at 1 p.m. and end at 4 p.m. On June 18 and 19, the sessions will begin at 9 a.m. and end at 4 p.m. The meeting is open to the public.

The purpose of the Committee is to provide advice and recommendations to the Secretary of Veterans Affairs on issues that are unique to veterans who served in the Southwest Asia theater of operations during the 1990-1991 period of the Gulf War.

At the meeting, there will be presentations and discussion from the Veterans Benefits Administration, Veterans Health Administration, National Cemetery Administration, and the Board of Veterans' Appeals. There will also be discussion of upcoming Committee activities.

The meeting will include time reserved for public comments. Individuals wishing to speak must register not later than June 10, 2008, by contacting Lelia Jackson at (202) 461-5758 or by e-mail at lelia.jackson@va.gov, and by submitting 1-2 page summaries of their comments for inclusion in the official record. Public comments will be limited to five minutes each. Members of the public may also submit written statements for the Committee's review to the Advisory Committee on Gulf War Veterans, Department of Veterans Affairs, 810 Vermont Avenue, NW., Washington, DC 20420. Public comments will be received on June 18 at 2:15 p.m.-2:45 p.m. and on June 19 at 3:30 p.m.-4 p.m. A sign-in sheet will be available each day.

Any member of the public seeking additional information should contact Laura O'Shea, Designated Federal Officer, at (202) 461-5765.

Dated: May 27, 2008.
By Direction of the Secretary.
E. Philip Riggin,
Committee Management Officer.

[FR Doc. E8-12238 Filed 6-2-08; 8:45 am]

BILLING CODE 8320-01-M